SMALL BUSINESS ADMINISTRATION

[Disaster Declaration #20205 and #20206; WASHINGTON Disaster Number WA-20005]

Presidential Declaration of a Major Disaster for the State of Washington; Correction

AGENCY: U.S. Small Business Administration.

ACTION: Correction.

SUMMARY: This is a correction to the Presidential declaration of a major disaster for the State of Washington (FEMA-4759-DR), dated 02/15/2024.

Incident: Wildfires.

Incident Period: 08/18/2023 through 08/25/2023.

DATES: Issued on 02/27/2024.

Physical Loan Application Deadline Date: 04/20/2024.

Economic Injury (EIDL) Loan Application Deadline Date: 11/20/2024.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Washington, dated 02/15/2024 published at 89 FR 14125, in the middle column under DATES, is hereby corrected to change the physical loan application deadline date to 04/20/2024 and the economic injury loan application deadline date to 11/20/2024. Applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties (Physical Damage and Economic Injury Loans): Spokane.

Contiguous Counties (Economic Injury Loans Only):

Washington: Lincoln, Pend Oreille, Stevens, Whitman

Idaho: Kootenai, Benewah, Bonner

The Interest Rates are:

| Percent
For Physical Damage:
Homeowners with Credit Available Elsewhere | 5.000
Homeowners without Credit Available Elsewhere | 2.500
Businesses with Credit Available Elsewhere | 8.000
Businesses without Credit Available Elsewhere | 4.000
Non-Profit Organizations with Credit Available Elsewhere | 2.375
Non-Profit Organizations without Credit Available Elsewhere | 2.375
For Economic Injury:
Business and Small Agricultural Cooperatives without Credit Available Elsewhere | 4.000
Non-Profit Organizations without Credit Available Elsewhere | 2.375

The number assigned to this disaster for physical damage is 202055 and for economic injury is 202060.

(Catalog of Federal Domestic Assistance Number 59008)

Francisco Sánchez, Jr.,
Associate Administrator, Office of Disaster Recovery & Resilience.

[FR Doc. 2024-04617 Filed 3-4-24; 8:45 am]

BILLING CODE 8026-09-P